DEPARTMENT OF JUSTICE

Notice of Public Comment Period for Consent Decree Under the Comprehensive Environmental Response, Compensation, and Liability Act

Notice is hereby given that, for a period of 30 days, the United States will receive public comments on a proposed Consent Decree in United States v. Larry Delatte (“Delatte Consent Decree”) (Civil Action No. 2:08-cv-3907), which was lodged with the United States District Court for the Eastern District of Louisiana on July 10, 2008. The proposed Consent Decree was lodged simultaneously with a Complaint filed against Larry Delatte.

The Complaint seeks recovery of response costs under Section 107 of the Comprehensive Environmental Response, Compensation, and Liability Act of 1980, as amended by the Superfund Amendments and Reauthorization Act of 1986 (“CERCLA”), 42 U.S.C. 9601 et seq. The Complaint alleges that Larry Delatte is civilly liable for response costs incurred by the United States in relation to the Delatte Metals Superfund Site near Ponchatoula, Tangipahoa Parish, Louisiana. Under the Consent Decree, Larry Delatte will pay $10,000 in reimbursement of past costs.

Comments should be addressed to the Assistant Attorney General, Environment and Natural Resources Division, and may be submitted to: P.O. Box 7611, U.S. Department of Justice, Washington, DC 20044-7611, or via e-mail to pubcomment-ees.enrd@usdoj.gov, and should refer to United States v. Larry Delatte, D.J. Ref. 90-11-3-09127.

The Consent Decree may be examined at the Office of the United States Attorney, Eastern District of Louisiana, 500 Poydras Street, 2nd Floor, New Orleans, Louisiana. During the public comment period the Delatte Consent Decree may also be examined on the following Department of Justice Web site: http://www.usdoj.gov/enrd/Consent_Decrees.html. A copy of the Delatte Consent Decree also may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.00 (25 cents per page reproduction cost) payable to the U.S. Treasury.

Thomas A. Mariani, Jr.,
Assistant Section Chief, Environmental Enforcement Section, Environment and Natural Resources Division.

[FR Doc. E8-16391 Filed 7-17-08; 8:45 am]

BILLING CODE 4410-15-P